DEPARTMENT OF COMMERCE

United States Patent and Trademark Office

National Telecommunications and Information Administration

[Docket No.: 130927852-3852-01]

Extension of Comment Period for Public Comments on Department of Commerce Green Paper, Copyright Policy, Creativity, and Innovation in the Digital Economy

AGENCY: United States Patent and Trademark Office, U.S. Department of Commerce; National Telecommunications and Information Administration, U.S. Department of Commerce.

ACTION: Notice of Extension of Public Comment Period.

SUMMARY: On October 3, 2013, the Department of Commerce's Internet Policy Task Force (Task Force) published a notice of public meeting and a request for public comments on five separate copyright policy issues critical to economic growth, job creation, and cultural development that were identified in the Department's Green Paper on Copyright Policy, Creativity, and Innovation in the Digital Economy (Green Paper). The purpose of this notice is to announce an extension of the period for filing post-meeting comments.

DATES: To be ensured of consideration, post-meeting comments are due on or before January 17, 2014. The filing of pre-meeting comments is not a prerequisite for filing post-meeting comments.

ADDRESSES: Interested parties are encouraged to file comments electronically by email to: CopyrightComments2013@uspto.gov. Comments submitted by email should be machine-searchable and should not be copy-protected. Written comments also may be submitted by mail to Office of Policy and International Affairs, United States Patent and Trademark Office (USPTO), Mail Stop External Affairs, P.O. Box 1450, Alexandria, VA 22313-1450. Responders should include the name of the person or organization filing the comment, as well as a page number, on each page of their submissions. Paper submissions should also include a CD or DVD containing the submission in Word, WordPerfect, or .pdf format. CDs or DVDs should be labeled with the name and organizational affiliation of the filer, and the name of the word processing program used to create the document. All comments received are a part of the public record and will be made available to the public at http://www.ntia.doc.gov/internetpolicytaskforce and http://www.uspto.gov/ip/global/copyrights/index.jsp without change. All personally identifiable information (for example, name, address) voluntarily submitted by the commenter may be publicly accessible. Do not submit confidential business information or otherwise sensitive or protected information. The Task Force will accept anonymous comments (enter “N/A” in the required fields if you wish to remain anonymous).

FOR FURTHER INFORMATION CONTACT: For further information regarding the public comments, contact Garrett Levin or Ben Golant, Office of Policy and International Affairs, United States Patent and Trademark Office, Madison Building, 600 Dulany Street, Alexandria, VA 22314; telephone (571) 272-9300; email garrett.levin@uspto.gov or benjamin.golant@uspto.gov. Please direct all media inquiries to the Office of the Chief Communications Officer, USPTO, at (571) 272-8400.

SUPPLEMENTARY INFORMATION: On October 3, 2013, the Task Force published a notice of public meeting and a request for public comments on five separate copyright policy issues critical to economic growth, job creation, and cultural development that were identified in the Department's Green Paper. The deadline for filing pre-meeting comments was November 13, 2013. See Request for Public Comments and Notice of Public Meeting, 78 Fed. Reg. 61337 (Oct. 3, 2013), available at http://www.ntia.doc.gov/files/ntia/publications/ntia_pto_rfc_10032013.pdf. The public meeting was held on December 12, 2013. Pursuant to a Federal Register Notice published on November 5, 2013, the deadline for filing post-meeting comments was set for January 10, 2014. See Notice of Change in Public Meeting Date and Change in Public Comment Periods, 78 Fed. Reg. 66337 (Nov. 5, 2013), available at http://www.ntia.doc.gov/files/ntia/publications/copyright_green_paper_public_meeting.pdf.

The Task Force is now extending the period for submission of public post-meeting comments until January 17, 2014. Archived recordings of the public meeting are available at http://new.livestream.com/uspto/copyright.

Dated: December 19, 2013.
Lawrence E. Strickling,
Assistant Secretary of Commerce for Communications and Information.
Margaret A. Focarino,
Commissioner for Patents, Performing the functions and duties of the Under Secretary of Commerce for Intellectual Property and Director of the United States Patent and Trademark Office.

[FR Doc. 2013-30690 Filed 12-24-13; 8:45 am]

BILLING CODE 3510-60-P